ENVIRONMENTAL PROTECTION AGENCY

40 CFR Part 52

[CA-225-0230; FRL-6567-3]

Proposed Approval and Promulgation of State Implementation Plans; California—Santa Barbara Ozone Nonattainment Area

AGENCY: Environmental Protection Agency (EPA).

ACTION: Proposed rule.

SUMMARY: EPA is proposing to approve Santa Barbara's 1998 Clean Air Plan (CAP), submitted by the California Air Resources Board (CARB). The Santa Barbara County Air Pollution Control District (SBCAPCD) adopted the plan to meet the Clean Air Act (CAA) requirements for ozone areas classified as serious. EPA is proposing to approve this revision to the California State Implementation Plan (SIP) under provisions of the CAA regarding EPA action on SIP submittals, SIPs for national primary and secondary ambient air quality standards, and plan requirements for nonattainment areas.

DATES: We must receive your written comments on this proposal by May 1, 2000.

ADDRESSES: Please address your comments to the EPA contact below. You may inspect and copy the rulemaking docket for this notice at the following location during normal business hours. We may charge you a reasonable fee for copying parts of the docket.

Environmental Protection Agency, Region 9, Air Division, Air Planning Office (AIR-2), 75 Hawthorne Street, San Francisco, CA 94105-3901,

Copies of the SIP materials are also available for inspection at the addresses listed below:

California Air Resources Board, 2020 L Street, Sacramento, CA 92123-1095.

Santa Barbara County Air Pollution Control District, 26 Castilian Drive B-23, Goleta, CA 93117.

Santa Barbara's 1998 Clean Air Plan is available electronically at: http://www3.sbcapcd.org/capes.htm

FOR FURTHER INFORMATION CONTACT: Dave Jesson, Air Planning Office (AIR-2), Air Division, U.S. EPA, Region 9, 75 Hawthorne Street, San Francisco, CA 94105-3901. Telephone: (415) 744-1288. E-mail: jesson.david@epa.gov.

SUPPLEMENTARY INFORMATION:

I. What Action Are We Proposing?

This Santa Barbara SIP revision addresses applicable CAA requirements for serious ozone nonattainment areas, including a demonstration of attainment by the statutory deadline of November 15, 1999.¹ We are proposing to approve the Santa Barbara ozone SIP with respect to its emissions inventories, control measures, 1999 rate-of-progress (ROP) plan, attainment plan, and transportation budgets. As discussed in section III.H., the 1998 CAP supersedes most portions of the 1994 ozone SIP for Santa Barbara, which we approved on January 8, 1997 (62 FR 1187-1190).

¹ Santa Barbara County was originally classified as a moderate area, but failed to attain the ozone NAAQS by the November 15, 1996, statutory deadline, and was reclassified as serious on December 10, 1997 (62 FR 65025-65030).

II. What Clean Air Act Provisions Apply to This Plan?

A. What Is the Ozone NAAQS?

Under section 109 of the CAA, we established NAAQS for ozone in 1979. 44 FR 8220 (February 8, 1979). The 1-hour NAAQS for ozone is 0.12 parts per million (ppm). Ground-level ozone is formed when nitrogen oxides (NOX) and volatile organic compounds (VOCs) react in the presence of sunlight, generally at elevated temperatures.² Strategies for reducing smog typically require reductions in both VOC and NOX emissions.

² The 1998 CAP generally substitutes the terms reactive organic gases (ROG) for VOC. These terms are essentially synonymous and are used interchangeably throughout this document.

Ozone causes serious health problems, particularly in children, by damaging lung tissue and sensitizing the lungs to other irritants. Even at very low levels, ozone can cause acute respiratory problems; aggravate asthma; cause temporary decreases in lung capacity of 15 to 20 percent in healthy adults, cause inflammation of lung tissue; lead to hospital admissions and emergency room visits; and impair the body's immune system defenses, making people more susceptible to respiratory illnesses, including bronchitis and pneumonia. Children are most at risk from exposure to ozone because they breathe more air per pound of body weight than adults, their respiratory systems are still developing and thus are more susceptible to environmental threats, and children exercise outdoors more than adults.

B. What Requirements Apply to This SIP Revision?

The most fundamental of the CAA provisions for ozone nonattainment areas is the requirement that the State submit a SIP demonstrating attainment of the NAAQS as expeditiously as practicable but no later than the applicable CAA deadline. Such a demonstration must provide enforceable measures to achieve emission reductions each year leading to emissions at or below the level predicted to result in attainment of the NAAQS throughout the nonattainment area.

We have issued a “General Preamble” describing the Agency's preliminary views on how we intend to act on SIPs submitted under Title I of the Act. See generally 57 FR 13498 (April 16, 1992) and 57 FR 18070 (April 28, 1992). You should refer to the General Preamble for a more detailed discussion of our preliminary interpretations of Title I requirements. In this action, we are applying these policies to the Santa Barbara ozone SIP submittal, taking into consideration the specific factual issues presented.

III. Does This SIP Submittal Meet CAA Requirements?

A. Does the 1998 CAP Satisfy the Procedural Requirements?

On December 29, 1998, the SBCAPCD adopted the 1998 CAP, after providing public notice and opportunity to comment. CARB approved the 1998 CAP (Executive Order 99-2a) and, on March 19, 1999, submitted the plan as a revision to the California SIP (letter from Michael P. Kenny, Executive Officer, to Felicia Marcus, EPA Regional Administrator). The SIP submittal includes proof of publication for the notice of SBCAPCD public hearing, as evidence that the hearing was properly noticed. We found this submittal to be complete on April 28, 1999.³ We believe that the public process associated with the 1998 CAP meets the procedural requirements of CAA sections 110(a) and (l) and 40 CFR 51.102.

³ EPA adopted the completeness criteria on February 16, 1990 (55 FR 5830) and, pursaunt to section 110(k)(1)(A) of the CAA, revised the criteria on August 26, 1991 (56 FR 42216).

B. Are the Emissions Inventories in the Plan Approvable?

Chapter 3, Chapter 6, and Appendix A of the 1998 CAP include updated historic and projected emission inventories for the years 1990, 1996, and 1999. The inventories summarize emissions from all stationary and mobile source categories both onshore and in the Outer Continental Shelf (OCS), where there are significant emissions from petroleum production and marine vessels. The inventories include estimated emissions from anthropogenic activities, biogenic and geogenic sources, and wildfires. Appendix A of the 1998 CAP includes estimates of ozone precursor emissions—ROG, NOX, and carbon monoxide (CO)— for the following: (1) 1990 base year annual emissions (Table A-3); (2) 1996 ozone season emissions (Tables A-7 and A-10); (3) 1996 annual emissions (Tables A-1 and A-2); and (4) 1999 ozone season emissions (Tables A-8 and A-11).⁴ As part of the ROP plan, the 1998 CAP presents 1990 base year ozone season emissions in Table 9-1. For informational purposes only, the 1998 CAP also includes projected ozone season emissions for 2005.

⁴ In Santa Barbara County, the ozone season covers the months of May through October.

The motor vehicle emissions in the 1998 CAP were generated using a group of models developed by CARB known as the Motor Vehicle Emission Inventory 7G1.0 corrected (MVEI7G1.0c). The Santa Barbara County Association of Governments (SBCAG) transportation model generated the area-specific data on motor vehicle population and usage. SBCAG also provided projections of population, employment, and housing, and the 1998 CAP identifies the source of other activity factors.

For 1999, SBCAG projected 9,459,848 vehicle miles traveled, 1,327,665 trips, and 2,213,431 starts, assuming State and local controls (1998 CAP, Appendix C, page C-29). The 1998 CAP (pages 5-4 and 5-5) also shows the motor vehicle emissions estimates for 1996 and 1999.

The revised and updated emissions inventories are comprehensive, accurate, and current estimates of actual emissions, as required by the CAA. The methodologies used to prepare the base and projected inventories conform to EPA guidance documents.⁵ Our guidance allows approval of California's motor vehicle emissions factors in place of the corresponding federal emissions factors. Therefore, we propose to approve the 1998 CAP emissions inventories for 1990, 1996, and 1999, under CAA sections 172(c)(3) and 182(a)(1). We are not acting on the emissions inventories for 2005, which the CAA does not require.

⁵ See, for example, Procedures for the Preparation of Emission Inventories for Carbon Monoxide and Precursors of Ozone, Volume I: General Guidance for Stationary Sources, EPA—450/4-91-016; Procedures for Emission Inventory Preparation, Volume IV: Mobile Sources, EPA—450/5-9-026d Revised.

C. Are the Control Measures Approvable?

CAA sections 110(a)(2)(A) and 172(c)(6) require that all measures and other elements in the SIP be enforceable. We have interpreted these provisions to allow for approval of attainment demonstrations that rely, in part, on commitments to adopt and implement rules in the future, so long as the commitments are specific and enforceable (see 57 FR 13556 and 13568, April 16, 1992; and 62 FR 1155-1157, January 8, 1997).

The attainment demonstration in the 1998 CAP rests primarily on emission reductions derived from adopted State and SBCAPCD measures, which the 1998 CAP describes in Chapter 4 (stationary sources) and Chapter 5 (transportation sources).

The transportation control measure (TCM) package for Santa Barbara County is summarized in Tables 5-1, 5-2, and 5-3. Table 5-1 summarizes each type of TCM, the adopting agency, the implementing agency, the commitments, and the monitoring mechanisms. Table 5-2 presents the specific projects, sponsors, and implementation status of all TCMs implemented as part of the 1994 Clean Air Plan while Table 5-3 summarizes all new projects, sponsors, and funding mechanisms as part of the 1998 Clean Air Plan. The information contained in these three tables adequately summarizes all TCMs applicable to Santa Barbara County.

To a small extent, both the ROP plan and attainment plan rely on reductions from 2 rules and 2 TCMs which SBCAPCD committed to adopt and implement in 1999. The 1998 CAP includes these 4 new control measures and 3 contingency measures, which are summarized in Table 1, entitled “Santa Barbara Measures.”

Table 1.—Santa Barbara Measures
Control Measures | Emission reductions (tons/avg. summer weekday): ROG | Emission reductions (tons/avg. summer weekday): NOX | Schedule: Adoption | Schedule: Implementation | Schedule: Status as of 2/00
352—Residential & Commercial Space and Water Heaters | 0 | 0.0047 (1999) | 4/99 | 6/99 | Adopted 9/16/99.
353—Control of ROG from Adhesives and Sealants | 0.4228 (1999) | 0 | 4/99 | 6/99 | Adopted 8/19/99.
T13 Accelerated Retirement of Vehicles | 0.06 (1999) | 0.02 (1999) | (¹) | 99-01 | Currently in force
T18 Alternative Fuels | 0.0003 (1999) | 0.002 (1999) |  |  | In Progress.
333—Control of Emissions from Reciprocating Internal Combustion Engines | 0 | 1.3656 (2005) | 4/99 | 4/01 | Contingency Measure.
T21—Enhanced Inspection & Maintenance | 4.29 (2005) | 3.07 (2005) |  |  | Contingency Measure.
T22—County-Wide Implementation of Tier III TDM Program | 30,840 VMT reduction |  |  |  | Contingency Measure.
¹ Adopted.

The measures 352, 353, T13, and T18 are relied upon in meeting the 1999 ROP and attainment demonstration requirements of the Act, while measures 333, T21, and T22 serve as contingency measures. Accordingly, and because the measures strengthen the SIP, we propose to approve all of the measures in Table 1 under CAA sections 110(k)(3) and 301(a).

D. Is the Rate-of-Progress Plan Approvable?

For ozone areas classified as serious or above, section 182(c)(2) requires that the SIP must provide for reductions in ozone-season, weekday VOC emissions of at least 3 percent per year net of growth averaged over each consecutive 3-year period beginning in 1996 until the attainment date. This is in addition to the 15 percent reduction over the first 6-year period required by CAA section 182(b)(1) for areas classified as moderate and above.

Chapter 9 of the 1998 CAP presents the 1999 ROP plan. As required by CAA sections 182(b)(1) and 182(c)(2)(B), the plan includes an adjusted 1990 base year ROG emission inventory and computes creditable 1999 emission reductions. The ROP plan must show that creditable reductions bring emissions below the required target level: a 24 percent reduction from 1990 emissions.⁶

⁶ The assessment of whether an area has met the reasonable further progress requirement in the milestone year is based on whether the area is at or below the milestone year target level of emissions and not on whether the area has achieved a certain actual emissions reduction under the SIP control strategy. See General Preamble. 57 FR 13516.

Table 2 entitled “1999 ROP Demonstration” presents these calculations, demonstrating that creditable ROG reductions are achieved without the need for substituting NOX reductions, as allowed by the CAA section 182(c)(2)(C). Consistent with CAA section 182(b)(1)(D), the ROP demonstration factors out reductions that would have been achieved by the Federal Motor Vehicle Control Program and Federal gasoline Reid Vapor Pressure regulations that were promulgated by November 15, 1990, or were required by CAA section 211(h).

Table 2.—1999 ROP Demonstration
| ROG emissions (tpd)
1990 ROP Base Year ROG Inventory | 79.32
1990 Adjusted Base Year Inventory | 56.72
24% ROP Adjusted Base Year | 13.61
Federal Motor Vehicle Control Program and Reid Vapor Pressure Requirement | 22.60
1999 ROP Target | 43.11
1999 Inventory with Controls | 38.93

Because the Santa Barbara ROP demonstration satisfies applicable requirements as discussed above, we propose to approve the 1998 CAP as meeting the progress requirements of CAA section 182(c)(2).

E. Is the Attainment Demonstration Approvable?

CAA section 181(a) requires serious ozone areas, including Santa Barbara, to demonstrate attainment as expeditiously as practicable but no later than November 15, 1999. The demonstration must show that VOC and NOx emissions will be (or have been) reduced to levels at which the ozone NAAQS will not be exceeded. Thus, the SIP must show that the projected design value will be less than or equal to 0.12 ppm at all locations within the nonattainment area.⁷

⁷ The design value is the fourth highest concentration at any monitor within the nonattainment area, over a 3-year period. You may find more details on the interpretation of the 1-hour ozone NAAQS at 40 CFR 50, Appendix H. If you wish to find out more about ozone modeling, attainment demonstrations, and applicable EPA guidance, please see 61 FR 10939-13940 (March 18, 1996) and 40 CFR 51, Appendix W.

The measured design value concentration at the peak monitoring station in Santa Barbara was 0.13 ppm for the period 1994-1996. The SIP must show that sufficient emission reductions will occur by 1999 to reduce this level by at least 4 percent in order to achieve the NAAQS, since the rounding convention treats values up to 0.1249 ppm as not exceeding the 0.12 ppm standard.

Appendix D of the CAP discusses the attainment demonstration, which CARB prepared for the Santa Barbara area. The State employed the Urban Airshed Model, using the September 5-7, 1984 episode, with eastern boundary conditions based on measured concentrations during the 1984 field study. Base case simulations for September 6 and 7 met our performance guidelines with one exception: the normalized bias for September 6 was very slightly above EPA's guideline.

CARB determined 1999 ozone concentrations by scaling the design value (0.13 ppm) by the relative change in peak ozone concentrations between 1996 and 1999. Based on the simulation results, the projected design value for 1999 was .1247 ppm.

We propose to approve the attainment demonstration portion of the plan as meeting the requirements of CAA section 182(c)(2)(A), since it demonstrates that the area will attain the NAAQS before the applicable deadline of November 15, 1999. In fact, the Santa Barbara area did reach attainment in 1999, having recorded no more than 3 exceedances at any monitor during the period 1997-1999, as shown in Table 3 below labeled “Exceedances of the 1-Hour Ozone NAAQS in Santa Barbara County, 1997-1999.”

Table 3.—Exceedances of the 1-Hour Ozone NAAQS in Santa Barbara County, 1997-1999
[1999 values are preliminary data from EPA's Aerometric Data System (AIRS)]
Monitoring station | 1997 | 1998 | 1999 | Total
Carpinteria | 0 | 0 | 0 | 0
El Capitan* | 0 | 0 | 0 | 0
Goleta* | 0 | 0 | 0 | 0
Las Flores Canyon | 1 | 1 | 1 | 3
Lompoc H S and P | 0 | 0 | 0 | 0
Lompoc H Street* | 0 | 0 | 0 | 0
Nojoqui Summit | 0 | 0 | 0 | 0
Paradise Road | 0 | 1 | 0 | 1
Santa Barbara* | 0 | 0 | 0 | 0
Santa Maria* | 0 | 0 | 0 | 0
Santa Rosa Island* | 0 | 0 | 0 | 0
Santa Ynez* | 0 | 0 | 0 | 0
Vandenberg Air Force Base | 0 | 0 | 0 | 0
* Denotes part of the State and Local Air Monitoring System (SLAMS). Other stations are operated by industry, at the direction of the SBCAPCD, as a condition to permits issued under the Prevention of Significant Deterioration (PSD) program.

F. Are the Motor Vehicle Emissions Budgets Approvable?

Attainment demonstration submittals must specify the maximum motor vehicle emissions allowed in the attainment year and demonstrate that this emissions level, when considered with emissions from all other sources, is consistent with attainment. In order for us to find the budget adequate and approvable, the submittal must meet the conformity adequacy requirements of 40 CFR 93.118(e)(4) and be approvable under all pertinent SIP requirements.

The motor vehicle emissions caps defined by this and other plans when they are approved into the SIP are used to determine the conformity of transportation plans, programs, and projects to the SIP, as described by CAA section 176(c)(2)(A). For more detail on this part of the conformity requirements see 40 CFR 93.118. For transportation conformity purposes, the cap on motor vehicle emissions is known as the motor vehicle emissions budget. The budget must reflect all of the motor vehicle control measures contained in the attainment demonstration (40 CFR 93.118(e)(4)(v)).

The motor vehicle emissions budgets in the 1998 CAP for 1999 are 17.42 tpd VOC and 22.07 tpd NOX, as shown below in Table 4 labeled “Santa Barbara Motor Vehicle Emissions Budgets.”

Table 4.—Santa Barbara Motor Vehicle Emissions Budgets
[1999 Emissions in Tons per Day, Using EMFAC7G]
| Voc | NOX
Emissions without TCMs | 17.52 | 22.16
Emission Reductions from TCMs | 0.10 | 0.09
Emissions Budget | 17.42 | 22.07

These budgets were developed using the State's MVEI7G1.0c motor vehicle emissions factors. We have already determined that these budgets are adequate (see 64 FR 73549, December 30, 1999), and we now propose to approve the budgets as consistent with all of the adequacy criteria of 40 CFR 93.118(e)(4), including consistency with the 1999 baseline emissions inventory, the motor vehicle control measure emission reductions used in the attainment demonstration, and the reductions needed for attainment.

CARB is expected to issue refinements to the emissions factors for use in developing onroad mobile source emission inventories and for making transportation conformity determinations. The refinements would more accurately reflect emission reductions associated with the State's motor vehicle inspection and maintenance (I/M) program and other motor vehicle controls.⁸ These refinements must be used in conformity determinations, in accordance with our transportation conformity regulations, which require use of the most current and accurate information (40 CFR 93.110(e), 122(a)(2)). Subsequent budgets will reflect these changes and any new or modified control measures adopted to ensure maintenance of the NAAQS.

⁸ The updated emission reductions which, among other things, would reflect more accurately the I/M program as compared to the 1994 submittal, are necessary in the case of I/M to account for legislative change to the program in 1997. The Santa Barbara area is subject to the “basic” I/M requirement of CAA section 182(b)(4) rather than the “enhanced” I/M requirement of section 182(c)(3) because the 1980 urbanized area population was less than 200,000. See CAA section 182(c)(3)(A).

G. Has the Area Established an Enhanced Monitoring Program?

As a result of the reclassification of the County to serious, Santa Barbara became subject to the CAA section 182(c)(1) requirement that the area establish and implement a Photochemical Assessment Monitoring Station (PAMS) network. To support the implementation of this regulatory requirement, EPA provided in excess of $435,000 to SBCAPCD through the Section 105 Grant, from FY1998 through FY2000.

The District worked diligently to expedite the implementation of a PAMS network, consisting of a split-Type II maximum ozone precursor station. VOC and carbonyl concentrations are collected at SBCAPCD's office, and additional data, including ozone, NOX, and meteorological parameters, are collected at SBCAPCD's SLAMS Goleta site. Upper air information is collected at the Santa Barbara Airport location. It was agreed that if Santa Barbara County remained in nonattainment status, the District would relocate all PAMS sampling to an optimum location in the foothills of Santa Barbara.

H. What Are the Implications of EPA's Proposed Plan Approval?

If we finalize the proposed approval of the 1998 CAP, this plan would replace and supersede the 1994 ozone SIP with the exception of the approved State control measures, the local control measures that are not amended by the 1998 CAP, and the local transportation control measures for which the 1998 CAP augments the TCM measures and projects included in the 1994 CAP. Our final approval would also make enforceable the SBCAPCD commitments to adopt and implement the control measures and contingency measures (if applicable) listed above in Table 1, to achieve the specified emissions reductions.

IV. Administrative Requirements

A. Executive Order 12866

The Office of Management and Budget (OMB) has exempted this regulatory action from Executive Order (E.O.) 12866, Regulatory Planning and Review.

B. Executive Order 13132

Executive Order 13132, entitled Federalism (64 FR 43255, August 10, 1999) revokes and replaces Executive Orders 12612, Federalism and 12875, Enhancing the Intergovernmental Partnership. Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This proposed rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. Thus, the requirements of section 6 of the Executive Order do not apply to this rule.

C. Executive Order 13045

Executive Order 13045, entitled Protection of Children from Environmental Health Risks and Safety Risks (62 FR 19885, April 23, 1997), applies to any rule that: (1) is determined to be “economically significant” as defined under E.O. 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency. This rule is not subject to E.O. 13045 because it is does not involve decisions intended to mitigate environmental health or safety risks.

D. Executive Order 13084

Under Executive Order 13084, Consultation and Coordination with Indian Tribal Governments, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.” Today's rule does not significantly or uniquely affect the communities of Indian tribal governments. Accordingly, the requirements of section 3(b) of E.O. 13084 do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions. This final rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co. v. U.S. EPA, 427 U.S. 246, 255-66 (1976); 42 U.S.C. 7410(a)(2).

F. Unfunded Mandates

Under Section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under Section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. National Technology Transfer and Advancement Act

Section 12 of the National Technology Transfer and Advancement Act (NTTAA) of 1995 requires Federal agencies to evaluate existing technical standards when developing new regulations. To comply with NTTAA, the EPA must consider and use “voluntary consensus standards” (VCS) if available and applicable when developing programs and policies unless doing so would be inconsistent with applicable law or otherwise impractical.

EPA believes that VCS are inapplicable to this proposed action. Today's proposed action does not require the public to perform activities conducive to the use of VCS.

List of Subjects in 40 CFR Part 52

Environmental protection, Air pollution control, Hydrocarbons, Intergovernmental regulations, Nitrogen oxides, Ozone, Reporting and recordkeeping requirements, Volatile organic compounds.

Authority: 42 U.S.C. 7401 et seq.

Dated: March 20, 2000.
David P. Howekamp,
Acting Regional Administrator, Region IX.

[FR Doc. 00-7736 Filed 3-29-00; 8:45 am]

BILLING CODE 6560-50-P